EXPORT-IMPORT BANK OF THE UNITED STATES

Sunshine Act Meeting

ACTION: Notice of a Partially Open Meeting of the Board of Directors of the Export-Import Bank of the United States.

TIME AND PLACE: Thursday, July 14, 2011 at 9:30 a.m. The meeting will be held at Ex-Im Bank in Room 1143, 811 Vermont Avenue, NW., Washington, DC 20571.

OPEN AGENDA ITEMS: Item No. 1: Resolution honoring the service of Ex-Im Bank's outgoing Director, Diane Farrell.

PUBLIC PARTICIPATION: The meeting will be open to public observation for Item No. 1 only.

FURTHER INFORMATION CONTACT: Office of the Secretary, 811 Vermont Avenue, NW., Washington, DC 20571, (202) 565-3957.

Lisa V. Terry,
Assistant General Counsel for Administration (Acting).

[FR Doc. 2011-17527 Filed 7-13-11; 8:45 am]

BILLING CODE 6690-01-M